DEPARTMENT OF THE INTERIOR

[201D0102DM. DS62600000. DLSN00000.000000. DX62601]

Department-Wide Transition To Use of GrantSolutions Award Management System for Managing Financial Assistance Awards

AGENCY: Office of the Secretary, Interior.

ACTION: Notice of a department-wide transition to the GrantSolutions award management system during fiscal years 2020 and 2021.

SUMMARY: The U.S. Department of the Interior (DOI) is providing notice of the transitioning of all bureaus and offices to using the GrantSolutions award management system to manage financial assistance awards. Recipients of financial assistance awards that are subject to the Uniform Administrative Requirements, Cost Principles, and Audit Requirements for Federal Awards will use the GrantSolutions system to manage reporting requirements and perform other award management actions.

DATES: The transition to using the GrantSolutions system will begin on May 18, 2020.

ADDRESSES: Mail questions to: Office of Grants Management, 1849 C Street NW, Mail Stop 4262-MIB, Washington, DC 20240. More information on the DOI GrantSolutions system transition for financial assistance is available at the following website: https://www.doi.gov/grants/grantsolutions.

FOR FURTHER INFORMATION CONTACT: Kaprice Tucker, Acting Director, 202-208-3466. DOI recipients are encouraged to direct all inquiries to their assigned bureau or office point of contact. People who use a telecommunications device for the deaf (TDD) may call the Federal Relay Service (FRS) at 1-800-877-8339 to contact the above individual or their designated bureau or office contact during normal business hours. The FRS is available 24 hours a day, 7 days a week, to leave a message or question with the above individual. You will receive a reply during normal business hours.

SUPPLEMENTARY INFORMATION: The U.S. Department of the Interior (DOI) has entered into an agreement with the Department of Health and Human Services (HHS) to modernize DOI's financial assistance programs through implementation of HHS' GrantSolutions platform, an award management system that provides end-to-end management capabilities for financial assistance awards. The transition supports DOI's effort to enhance stewardship over the estimated $4 billion in financial assistance awarded annually. The GrantSolutions award management system will allow DOI to standardize financial assistance management procedures, and increase transparency, accountability, and oversight for financial assistance funding.

As a result of the transition, all DOI recipients of financial assistance awards (grants, cooperative agreements, and other types of Federal funding) that are subject to the requirements of 2 CFR 200 will use the GrantSolutions system to manage reporting requirements and perform other award management actions. DOI will provide web-based training for all impacted recipients. DOI will not transition compacts, annual funding agreements, contracts, or other tribal programs subject to the requirements of Public Law 93-638, the Indian Self-Determination and Education Assistance Act, as amended, at this time. These recipients will continue to use existing DOI systems provided by individual bureaus to manage these awards.

The GrantSolutions award management system will allow recipients to perform the following actions:

• View award(s) and related award information.

• View funding applications submitted by the recipient and related award notices.

• Communicate with and send documents to Federal staff.

• Manage award amendments and view their status after submission.

• Manage in-progress applications and view submitted and awarded applications.

• Apply for non-competitive and mandatory awards.

• Apply for directed award supplements.

• View and submit program progress reports.

• Create, edit, submit, and view Federal financial reports.

All bureaus, Departmental offices, and recipients will transition to using the GrantSolutions award management system according to the schedule below. Recipients will receive access to GrantSolutions on the same dates as the bureau or office responsible for managing their program funding. The GrantSolutions transition schedule is as follows:

• Group A transition date is May 18, 2020. Group A includes the following bureaus and their recipients: U.S. Fish and Wildlife Service, Bureau of Ocean Energy Management, and Bureau of Safety and Environmental Enforcement, and their recipients.

• Group B transition date is October 13, 2020. Group B includes the National Park Service and their recipients.

• Group C transition date is December 7, 2020. Group C includes the following bureaus, Departmental offices, and their recipients: Bureau of Indian Affairs/Bureau of Indian Education, Bureau of Land Management, Bureau of Reclamation, Departmental Offices, Office of Surface Mining Reclamation and Enforcement, and the U.S. Geological Survey, and their recipients.

DOI recipients are encouraged to visit the DOI GrantSolutions system transition web page provided or contact their designated bureau or office financial assistance award contact for more information on the transition.

Kaprice Tucker,
Acting Director, Office of Grants Management.

[FR Doc. 2020-07389 Filed 4-8-20; 8:45 am]

BILLING CODE 4334-63-P